DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 27, 2000.

Interested persons are invited to submit written comments regarding the subject matter of the investigations to the Director, Division of Trade Adjustment Assistance, at the address shown below, not later than November 27, 2000.

The petitions filed in this case are available for inspection at the Office of the Director, Division of Trade Adjustment Assistance, Employment and Training Administration, U.S. Department of Labor, Room C-5311, 200 Constitution Avenue, NW., Washington, DC 20210.

Signed at Washington, DC, this 30th day of October, 2000.
Edward A. Tomchick,
Director, Division of Trade Adjustment Assistance.

Appendix

Petitions Instituted on 10/30/2000
TA-W | Subject firm (petitioners) | Location | Date of petition | Product(s)
38,248 | Facemate PL | Somerworth, NH | 10/20/2000 | Finished textile.
38,249 | Harriet and Henderson (Co.) | Somerville, GA | 10/09/2000 | Cotton and synthetic yarn.
38,350 | Designer Hearths, Inc (Wkrs) | Missoula, MT | 10/17/2000 | Stone and tile hearth pads.
38,251 | Technical Rubber (IUE) | Clifton, NY | 10/10/2000 | Rubber gaskets and rings.
38,252 | A.O. Smith EPC (Co.) | Paoli, IN | 10/19/2000 | C frame electric motors.
38,253 | Intercontinental Branded (UNITE) | Buffalo, NY | 10/17/2000 | Men's suits.
38,254 | Craftwood Designs (Co.) | Haleyville, AL | 10/19/2000 | Solid wooden chairs, cabinets, tables.
38,255 | Still Man Heating Product (Co.) | Cookeville, TN | 10/18/2000 | Tubular electrical heating elements.
38,256 | Wundies Santtony Wear (Wkrs) | Rockingham, NC | 10/17/2000 | Ladies' undergarment.
38,257 | Pine State Kintwear (Wkrs) | Statesville, NC | 10/13/2000 | Sweaters.
38,258 | U.S. Label Artistic (Co.) | Clinton, NC | 10/12/2000 | Printed labels for textile garments.
38,259 | Precision Interconnect (Wkrs) | Waupun, WI | 10/17/2000 | Cables for medical equipment.
38,260 | Austin Apparel, Inc. (Co.) | Lancaster, KY | 10/18/2000 | Blue jeans.
38,261 | McNeil and NRM (Wkrs) | Akron, OH | 10/05/2000 | Tire presses.
38,262 | Paramount Headwear, Inc. (Co.) | Mountain Grove, MO | 09/28/2000 | Headwear.
38,263 | Columbia Footwear (Co.) | Hazelton, PA | 10/21/2000 | Shoes.
38,264 | Chase Manhattan Bank (Co.) | Midland, TX | 10/19/2000 | Oil.
38,265 | Hi Line Storage System (Wkrs) | Perkasie, PA | 10/13/2000 | Storage systems.
38,266 | Jones and Vining (Wkrs) | Lewiston, ME | 10/18/2000 | Soles for footwear.
38,267 | A and B Component (Wkrs) | Shubuta, MS | 10/11/2000 | Rotor cells for truck engines.
38,268 | Ride Snowboard Mfg. (Co.) | Corona, CA | 10/18/2000 | Snowboards.
38,269 | Hamilton Beach (Co.) | Mount Airy, NC | 10/18/2000 | Toasters, toaster ovens and parts.
38,270 | General Electric Blooming (IBEW) | Bloomington, IN | 10/10/2000 | Side-By-Side refrigerator units.
38,271 | Shipley Ronal (Wkrs) | Long Island, NY | 08/21/2000 | Chemicals.
38,272 | Renfro Corporation (Wkrs) | Pulaski, VA | 10/13/2000 | Socks.
38,273 | McNairy Shirtworks (Wkrs) | Adamsville, IN | 10/17/2000 | Ladies' turtle neck tops.
38,274 | Tingley Rubber (USWA) | So. Plainfield, NJ | 10/16/2000 | Rubberized clothing.

[FR Doc. 00-29160 Filed 11-14-00; 8:45 am]

BILLING CODE 4510-30-M